LIBRARY OF CONGRESS

Copyright Office

37 CFR Part 201

[Docket No. RM 2009-5]

Fees for Special Handling of Registration Claims

AGENCY: Copyright Office, Library of Congress.

ACTION: Extension of temporary rule.

SUMMARY: The Copyright Office is extending for one year the interim rule relating to fees for special handling of registration claims that have been pending for at least six months. Currently, the interim rule is set to expire on July 1, 2011, and this extension will change the expiration date to July 1, 2012.

DATES: The effective period of 37 CFR 201.15, published August 10, 2009 (74 FR 39900) is extended through July 1, 2012.

FOR FURTHER INFORMATION CONTRACT: David O. Carson, General Counsel, or Kent Dunlap, Assistant General Counsel, Copyright GC/I&R, P.O. Box 70400, Southwest Station, Washington, DC 20024. Telephone: (202) 707-8380. Telefax: (202) 707-8366.

SUPPLEMENTARY INFORMATION: On August 10, 2009, the Copyright Office published a notice of an interim rule relating to fees for special handling of registration claims that have been pending for at least six months. 74 FR 39900 (August 10, 2009). Under this interim rule, the Copyright Office waived the normal special handling charges for conversion of a pending copyright application that had been pending for more than six months without any action by the Copyright Office in instances where the applicant satisfied the Office that special handling of the registration was needed because the applicant was about to file a suit for copyright infringement. The interim rule § 201.15, was set to expire on July 1, 2011.

As was noted in the Federal Register notice announcing this interim rule, at that time the pendency rates for applications for registration had risen to unacceptably high levels due to issues relating to the transition to the Office's new electronic filing system, especially with respect to paper applications. Since that time, much progress has been made in reducing the pendency rates. The average time to complete claims that are submitted electronically is now 3 months, but for paper applications the average is now 13 months, with 30% of paper applications being processed within 6 months. Therefore, the Office has concluded that there remains a need to permit special handling without an additional fee in cases where applications have been pending for more than 6 months, without any action by the Copyright Office, and prompt registration is needed to permit the filing of a copyright infringement suit.

The Office will reevaluate whether there is a continuing need for this interim rule to remain in place as the new expiration date approaches next year.

Persons wishing to take advantage of this accommodation must continue to comply with the requirements set forth in section 201.15 of the Copyright Office regulations, including the requirement to submit an affidavit or declaration under penalty of perjury providing the information and documents required by that section of the regulations.

Dated: June 22, 2011.
Maria A. Pallante,
Register of Copyrights.
Approved by:
James H. Billington,
The Librarian of Congress.

[FR Doc. 2011-16432 Filed 6-29-11; 8:45 am]

BILLING CODE 1410-30-P